DEPARTMENT OF COMMERCE

National Oceanic and Atmospheric Administration

[RTID 0648-XV152]

South Atlantic Fishery Management Council; Public Hearings

AGENCY: National Marine Fisheries Service (NMFS), National Oceanic and Atmospheric Administration (NOAA), Commerce.

ACTION: Notice of public hearings.

SUMMARY: The South Atlantic Fishery Management Council (Council) will hold a series of public hearings via webinar pertaining to Framework Amendment 9 to the Fishery Management Plan for Coastal Migratory Pelagic Resources in the Gulf of Mexico and Atlantic Region. The amendment addresses commercial trip limits in the Atlantic Northern Zone for commercial Spanish mackerel.

DATES: The public hearings will be held via webinar on January 22 and 23, 2020. See SUPPLEMENTARY INFORMATION.

ADDRESSES: Council address: South Atlantic Fishery Management Council, 4055 Faber Place Drive, Suite 201, N Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: The public hearings will be conducted via webinar, accessible via the internet from the Council's website at https://safmc.net/safmc-meetings/public-hearings-scoping-meetings/. The public hearings will begin at 6 p.m. Registration for the webinars is required. Registration information will be posted on the Council's website as it becomes available. Public comments must be received by 5 p.m. on February 7, 2020.

Framework Amendment 9 to the Coastal Migratory Pelagics FMP

The draft amendment currently addresses commercial Spanish mackerel trip limits in the Atlantic Northern Zone (New York/Connecticut/Rhode Island line to the North Carolina/South Carolina line). Stakeholders have expressed concern about closures to commercial Spanish mackerel harvest in federal waters off the Atlantic Northern Zone. Framework Amendment 9 proposes a trip limit reduction in the Northern Zone to help extend the commercial Spanish mackerel season in federal waters.

During the public hearings, Council staff will present an overview of the amendment and will be available for informal discussions and to answer questions via webinar. Members of the public will have an opportunity to go on record to record their comments for consideration by the Council.

Special Accommodations

These meetings are physically accessible to people with disabilities. Requests for auxiliary aids should be directed to the council office (see ADDRESSES) 3 days prior to the meeting.

Authority: 16 U.S.C. 1801 et seq.

Dated: December 19, 2019.
Tracey L. Thompson,
Acting Deputy Director, Office of Sustainable Fisheries, National Marine Fisheries Service.

[FR Doc. 2019-27809 Filed 12-23-19; 8:45 am]

BILLING CODE 3510-22-P